DEPARTMENT OF TRANSPORTATION

Office of the Secretary

Aviation Proceedings, Agreements Filed During Week Ending July 27, 2001

The following Agreements were filed with the Department of Transportation under provisions of 49 U.S.C. Sections 412 and 414. Answers may be filed within 21 days after the filing of the applications.

Docket Number: OST-2001-10204.

Date Filed: July 23, 2001.

Parties: Members of the International Air Transport Association.

Subject:

Mail Vote 135 PTC12 USA-EUR 0122 dated 29 June 2001

TC12 North Atlantic USA-Austria, Belgium, Germany, Italy, Netherlands, Scandinavia, Switzerland Resolutions r1-r21

PTC12 USA-EUR 0127 dated 24 July 2001 (Affirmative/Technical Corrections)

MINUTES—PTC12 USA-EUR 0126 dated 17 July 2001 (Report)

TABLES—PTC12 USA-EUR Fares 0062 dated 24 July 2001

Intended effective date: 1 November.

Docket Number: OST-2001-10222.

Date Filed: July 24, 2001.

Parties: Members of the International Air Transport Association.

Subject:

PTC12 CAN-EUR 0071 dated 24 July 2001.

Mail Vote 137—Resolutions 002b, 015v, 076ii

TC12 North Atlantic Canada—Europe

Intended effective date: 15 August 2001.

Cynthia L. Hatten,
Federal Register Liaison.

[FR Doc. 01-20309 Filed 8-13-01; 8:45 am]

BILLING CODE 4910-62-P